DEPARTMENT OF DEFENSE

Notice of the Defense Acquisition Performance Assessment Project—Open Meeting; Correction

AGENCY: Department of Defense, DOD.

ACTION: Notice; Correction,

SUMMARY: The Defense Acquisition Performance Assessment Project published a notice of meetings in the Federal Register/Vol. 70, No. 148/Wednesday, August 3, 2005. The meeting times for the August 17, 2005 Public Meeting have been changed and the address and phone numbers for LTC Bergeron are no longer current and should be removed.

FOR FURTHER INFORMATION CONTACT: LTC Rene Bergeron, rene.Bergeron@pentagon.af.mil.

Correction

In the Federal Register of August 3, 2005, in FR Doc 05-15455, on page 44571, left column, bottom of the page, correct the DATES: caption to read:

DATES: August 17, 2005-1 p.m. to 6 p.m.

In the Federal Register of August 3, 2005, in FR Doc 05-15455, on page 44571, top middle column, correct FOR FURTHER INFORMATION CONTACT caption to read:

FOR FURTHER INFORMATION CONTACT: LTC Rene Bergeron, rene.Bergeron@pentagon.af.mil.

Dated: August 15, 2005.
Jeannette Owings-Ballard,
OSD Federal Register Liaison Officer, Department of Defense.

[FR Doc. 05-16447 Filed 8-16-05; 11:22 am]

BILLING CODE 5001-06-P